DEPARTMENT OF HOMELAND SECURITY

Federal Emergency Management Agency

[Docket ID FEMA-2020-0002; Internal Agency Docket No. FEMA-B-2038]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before September 30, 2020.

ADDRESSES: The Preliminary FIRM, and where applicable, the FIS report for each community are available for inspection at both the online location https://www.fema.gov/preliminaryfloodhazarddata and the respective Community Map Repository address listed in the tables below. Additionally, the current effective FIRM and FIS report for each community are accessible online through the FEMA Map Service Center at https://msc.fema.gov for comparison.

You may submit comments, identified by Docket No. FEMA-B-2038, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://www.fema.gov/preliminaryfloodhazarddata and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

Community | Community map repository address
Kern County, California and Incorporated Areas
Project: 14-09-3094S Preliminary Date: November 15, 2019
City of Bakersfield | Development Services, 1715 Chester Avenue, Bakersfield, CA 93301.
Unincorporated Areas of Kern County | Public Works Department, 2700 M Street, Suite 500, Bakersfield, CA 93301.
Herkimer County, New York (All Jurisdictions)
Project: 17-02-0791S Preliminary Dates: August 3, 2018 and December 13, 2019
City of Little Falls | Little Falls City Hall, 659 East Main Street, Little Falls, NY 13365.
Town of Columbia | Columbia Town Hall, 147 Columbia Center Road, Ilion, NY 13357.
Town of Danube | Danube Town Hall, 438 Creek Road, Little Falls, NY 13365.
Town of Fairfield | Fairfield Town Hall, 439 Kelly Road, Little Falls, NY 13365.
Town of Frankfort | Frankfort Town Hall, 201 3rd Avenue, Frankfort, NY 13340.
Town of German Flatts | German Flatts Town Hall, 66 East Main Street, Mohawk, NY 13407.
Town of Herkimer | Herkimer Town Hall, 114 North Prospect Street, Herkimer, NY 13350.
Town of Litchfield | Litchfield Town Hall, 804 Cedarville Road, Ilion, NY 13357.
Town of Little Falls | Little Falls Town Hall, 478 Flint Avenue Extension, Little Falls, NY 13365.
Town of Manheim | Manheim Town Hall, 6356 State Route 167, Dolgeville, NY 13329.
Town of Newport | Newport Town Hall, 2788 Newport Road, Newport, NY 13416.
Town of Norway | Norway Town Office, 3013 Military Road, Newport, NY 13416.
Town of Ohio | Ohio Town Hall, 234 Nellis Road, Ohio, NY 13324.
Town of Russia | Russia Town Hall, 8916 North Main Street, Poland, NY 13431.
Town of Salisbury | Salisbury Town Hall, 126 State Route 29A, Salisbury Center, NY 13454.
Town of Schuyler | Schuyler Town Hall, 2090 State Route 5, Utica, NY 13502.
Town of Stark | Stark Town Hall, 703 Elwood Road, Fort Plain, NY 13339.
Town of Warren | Warren Town Hall, 383 Hogsback Road, Richfield Springs, NY 13439.
Town of Webb | Webb Town Hall, 183 Park Avenue, Old Forge, NY 13420.
Town of Winfield | Winfield Town Hall, 306 Stone Road, West Winfield, NY 13491.
Village of Cold Brook | Russia Town Hall, 8916 North Main Street, Poland, NY 13431.
Village of Dolgeville | Dolgeville Village Hall, 41 North Main Street, Dolgeville, NY 13329.
Village of Frankfort | Frankfort Village Hall, 110 Railroad Street, Suite 1, Frankfort, NY 13340.
Village of Herkimer | Herkimer Village Hall, 120 Green Street, Herkimer, NY 13350.
Village of Ilion | Ilion Village Hall, 49 Morgan Street, Ilion, NY 13357.
Village of Middleville | Corey Hall, 3 South Main Street, Middleville, NY 13406.
Village of Mohawk | Mohawk Village Hall, 28 Columbia Street, Mohawk, NY 13407.
Village of Newport | Newport Village Hall, 4 Coventry Avenue, Yorkville, NY 13495.
Village of Poland | Poland Village Hall, 9 Case Street, Poland, NY 13431.
Village of West Winfield | Bisby Hall, 179 South Street, West Winfield, NY 13491.

[FR Doc. 2020-14315 Filed 7-1-20; 8:45 am]

BILLING CODE 9110-12-P